DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA).

Title: Annual Survey of U.S. Direct Investment Abroad.

OMB Control Number: 0608-0053.

Form Number: BE-11.

Type of Request: Regular submission.

Number of Respondents: An estimated 1,900 U.S. parents will file data for their U.S. operations on the A form; 21,800 foreign affiliates, which include 20,500 B forms, 1,150 C forms, and 150 D forms; and 500 Claim for Exemption forms.

Estimated Total Annual Burden Hours: 262,250 hours. Total annual burden is calculated by multiplying the estimated number of submissions of each form by the average hourly burden per form, which is 7 hours for the A form, 12 hours for the B form, 2 hours for the C form, 1 hour for the D form, and 1 hour for the Claim for Exemption forms.

Estimated Time per Respondent: 138.0 hours per respondent (262,250 hours/1,900 U.S. parents) is the average, but may vary considerably among respondents because of differences in company structure, size, and complexity.

Needs and Uses: The Annual Survey of U.S. Direct Investment Abroad (Form BE-11) collects financial and operating data covering the operations of U.S. parents and their foreign affiliates, including their balance sheets, income statements, property, plant, and equipment, employment and employee compensation, merchandise trade, sales of goods and services, taxes, and research and development activity. The survey is a sample survey that covers all foreign affiliates above a size-exemption level and their U.S. parents. The sample data are used to derive universe estimates in nonbenchmark years by extrapolating forward similar data reported in the BE-10, Benchmark Survey of U.S. Direct Investment Abroad, which is conducted every five years. The data are needed to measure the size and economic significance of direct investment abroad, measure changes in such investment, and assess its impact on the U.S. and foreign economies.

The data from the survey are primarily intended as general purpose statistics. They should be readily available to answer any number of research and policy questions related to U.S. direct investment abroad.

Affected Public: Businesses or other for-profit organizations.

Frequency: Annual.

Respondent's Obligation: Mandatory.

This information collection request may be viewed at www.reginfo.gov. Follow the instructions to view Department of Commerce collections currently under review by OMB.

Written comments and recommendations for the proposed information collection should be sent within 30 days of publication of this notice to OIRASubmission@omb.eop.gov or fax to (202) 395-5806.

Dated: September 9, 2015.
Glenna Mickelson,
Management Analyst, Office of the Chief Information Officer.

[FR Doc. 2015-23014 Filed 9-11-15; 8:45 am]

BILLING CODE 3510-06-P